DEPARTMENT OF JUSTICE

Office of Justice Programs

[OMB Number 1121-0223]

National Institute of Justice; Agency Information Collection Activities: Proposed Collection; Comments Requested

ACTION: 60-Day Notice of Information Collection Under Review: Reinstatement—Crime Mapping Survey.

The Department of Justice (DOJ), Office of Justice Programs (OJP), National Institute of Justice (NIJ) will be submitting the following information collection request to the Office of Management and Budget (OMB) for review and approval in accordance with the Paperwork Reduction Act of 1995. The proposed information collection is published to obtain comments from the public and affected agencies. Comments are encouraged and will be accepted for “sixty days” until December 31, 2007. This process is conducted in accordance with 5 CFR 1320.10.

If you have comments especially on the estimated public burden or associated response time, suggestions, or need a copy of the proposed information collection instrument with instructions or additional information, please contact Ronald E. Wilson, National Institute of Justice, 810 7th Street, NW., Washington, DC 25301.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of Information Collection: Reinstatement with Change.

(2) Title of the Form/Collection: Crime Mapping Survey.

(3) Agency form number, if any, and the applicable component of the Department of Justice sponsoring the collection: None. Office of Research and Evaluation, National Institute of Justice, Office of Justice Programs, U.S. Department of Justice.

(4) Affected public who will be asked or required to respond, as well as a brief abstract: Primary: Law Enforcement Agencies. Other: None. This national survey is designed to do three things. One is to determine the extent to which police departments, specifically crime analysts, are utilizing computerized crime mapping since the first survey. Two is to understand to what extent crime mapping has been adopted since the first survey. Three is to expand the survey to understand the new ways that computerized crime mapping is being utilized, including the technologies adopted. Surveys will be mailed to a randomly select sample of police departments. The questionnaire will determine the level of crime mapping within those departments, both in terms of hardware and software resources as well as the data used and types of maps that are produced and how they are used. The information collected from this survey will be used to advise the Mapping and Analysis for Public Safety (formerly the Crime Mapping Research Center) on what resources we need to provide to law enforcement who use, and want to use, crime mapping.

(5) An estimate of the total number of respondents and the amount of time estimated for an average respondent to respond: It is estimated that 112,123 respondents will complete each form within approximately 6 minutes.

(6) An estimate of the total public burden (in hours) associated with the collection: We estimate this survey will take 45 minutes per respondent, with the demographic section taking 10 minutes and the questions regarding crime mapping taking 35 minutes. Based on the expected sample of 2,630 respondents, the total estimated burden is 1,972 hours.

If additional information is required contact: Lynn Bryant, Department Clearance Officer, United States Department of Justice, Justice Management Division, Policy and Planning Staff, Patrick Henry Building, Suite 1600, 601 D Street, NW., Washington, DC 20530.

Dated: October 25, 2007.
Lynn Bryant,
Department Clearance Officer, Department of Justice.

[FR Doc. E7-21427 Filed 10-30-07; 8:45 am]

BILLING CODE 4410-18-P